DEPARTMENT OF COMMERCE

Bureau of Industry and Security

15 CFR Parts 736 and 744

[Docket No. 060531141-6141-01]

RIN: 0694-AD76

General Order Concerning Mayrow General Trading and Related Entities

AGENCY: Bureau of Industry and Security, Commerce.

ACTION: Final rule.

SUMMARY: The Bureau of Industry and Security is amending the Export Administration Regulations (EAR) by issuing a general order to impose a license requirement for exports and reexports of all items subject to the Export Administration Regulations (EAR) where the transaction involves Mayrow General Trading or entities related, as follows: Micatic General Trading; Majidco Micro Electronics; Atlinx Electronics; Micro Middle East Electronics; Narinco; F.N. Yaghmaei; and H. Ghasir. Mayrow General Trading and all entities related are located in Dubai, United Arab Emirates. This order also prohibits the use of License Exceptions for exports or reexports of any items subject to the EAR involving these entities. This final rule also adds a reference to the new general order in the part of the EAR that sets forth end-use and end-user license requirements.

DATES: Effective Date: This rule is effective June 5, 2006.

FOR FURTHER INFORMATION CONTACT: Michael D. Turner, Director, Office of Export Enforcement, Bureau of Industry and Security, Department of Commerce, P.O. Box 273, Washington, DC 20044; Phone: (202) 482-2252; E-mail: rpd2@bis.doc.gov; Fax: (202) 482-0964.

SUPPLEMENTARY INFORMATION:

Background

The United States Government, including the United States Department of Commerce, Bureau of Industry and Security (BIS), has come into the possession of information giving reason to believe, based on specific and articulable facts, that Mayrow General Trading and its related entities have acquired electronic components and devices capable of being used to construct Improvised Explosive Devices (IEDs). These commodities have been, and may continue to be, employed in IEDs or other explosive devices used against Coalition Forces in Iraq and Afghanistan.

To curtail such use of these commodities in order to protect Coalition Forces operating in Iraq and Afghanistan, the Department of Commerce is issuing General Order No. 3, set forth in Supplement No. 1 to part 736, imposing a license requirement for export and reexports of all items subject to the Export Administration Regulations (EAR) (15 CFR parts 736 and 744) to Mayrow General Trading and entities related to or controlled by 6it, as follows:

Mayrow General Trading, Flat 401—Bin Yas Center—Al Maktum Road, P.O. Box 42340, Dubai, UAE; Shops 3-4, Sharafia Ahmed Ali Building, al-Nakheel, Deira, Dubai, UAE; P.O. Box 42340, Deira, Dubayy, UAE and P.O. Box 171978, Deira, Dubayy, UAE;

Micatic General Trading, Flat 401—Bin Yas Center—Al Maktum Road, P.O. Box 42340, Dubai, UAE; and Shops 3-4, Sharafia Ahmed Ali Building, al-Nakheel, Deira, Dubai, UAE;

Majidco Micro Electronics, Flat 401—Bin Yas Center—Al Maktum Road, P.O. Box 42340, Dubai, UAE; and Shops 3-4, Sharafia Ahmed Ali Building, al-Nakheel, Deira, Dubai, UAE;

Atlinx Electronics, Flat 401—Bin Yas Center—Al Maktum Road, P.O. Box 42340, Dubai, UAE; and Shops 3-4, Sharafia Ahmed Ali Building, al-Nakheel, Deira, Dubai, UAE;

Micro Middle East Electronics, Flat 401—Bin Yas Center—Al Maktum Road, P.O. Box 42340, Dubai, UAE; and Shops 3-4, Sharafia Ahmed Ali Building, al-Nakheel, Deira, Dubai, UAE; Narinco, Flat 401—Bin Yas Center—Al Maktum Road, P.O. Box 42340, Dubai, UAE; and Shops 3-4, Sharafia Ahmed Ali Building, al-Nakheel, Deira, Dubai, UAE;

F.N. Yaghmaei, Flat 401—Bin Yas Center—Al Maktum Road, P.O. Box 42340, Dubai, UAE; and Shops 3-4, Sharafia Ahmed Ali Building, al-Nakheel, Deira, Dubai, UAE; and

H. Ghasir, Flat 401—Bin Yas Center—Al Maktum Road, P.O. Box 42340, Dubai, UAE; and Shops 3-4, Sharafia Ahmed Ali Building, al-Nakheel, Deira, Dubai, UAE.

Under this order, a BIS license is required for the export or reexport of any item subject to the EAR to any of the above-named entities, including any transaction in which any of the above-named entities will act as purchaser, intermediate consignee, ultimate consignee, or end-user of the items. This order also prohibits the use of License Exceptions (see part 740 of the EAR) for exports and reexports of items subject to the EAR involving such entities.

To assist readers in finding in the EAR these additional end-users subject to special restrictions with respect to exports and reexports, this rule also adds a new Section 744.15 to part 744 of the EAR (Control Policy: End-User and End-Use Based) to provide a cross reference to the prohibitions contained in the general orders in Supplement No. 1 to part 736.

Consistent with section 6 of the Export Administration Act of 1979, as amended (50 U.S.C. app. 2401-2420) (the “Act”), a foreign policy report was submitted to Congress on May 30, 2006, notifying Congress of the imposition of a control in the form of a licensing requirement for exports and reexports of all items subject to the EAR destined to Mayrow General Trading and related entities.

Since August 21, 2001, the Act has been in lapse and the President, through Executive Order 13222 of August 17, 2001 (3 CFR, 2001 Comp. 783 (2002)), as extended most recently by the Notice of August 2, 2005, (70 FR 45273 (August 5, 2005)), has continued the EAR in effect under the International Emergency Economic Powers Act (50 U.S.C. 1701-1706 (2000)) (“IEEPA”). The BIS continues to carry out the provisions of the Act, as appropriate and to the extent permitted by law, pursuant to Executive Order 13222.

Rulemaking Requirements

1. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 58 minutes to prepare and submit form BIS-748. Miscellaneous and recordkeeping activities account for 12 minutes per submission. Total burden hours associated with the Paperwork Reduction Act and Office and Management and Budget control number 0694-0088 are expected to increase slightly as a result of this rule. Send comments regarding these burden estimates or any other aspect of this collection of information, including suggestions for reducing the burden, to David Rostker, OMB Desk Officer, by e-mail at david_rostker@omb.eop.gov or by fax to (202) 395-7285; and to the Regulatory Policy Division, Bureau of Industry and Security, Department of Commerce, P.O. Box 273, Washington, DC 20044, e-mail: publiccomments@bis.doc.gov.

3. This rule does not contain policies with Federalism implications as that term is defined in Executive Order 13132.

4. The provisions of the Administrative Procedure Act (5 U.S.C. 553) requiring notice of proposed rulemaking, the opportunity for public participation, and a delay in effective date, are inapplicable because this regulation involves a military or foreign affairs function of the United States. (See 5 U.S.C. 553(a)(1)) Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et. seq., are not applicable.

List of Subjects

15 CFR Part 736

Exports, foreign trade.

15 CFR Part 744

Exports, Foreign trade, Reporting and recordkeeping requirements.

Accordingly, parts 736 and 744 of the Export Administration Regulations (15 CFR parts 736-744) are amended as follows:

PART 736—[AMENDED]

1. The authority citation for 15 CFR part 736 continues to read as follows:

Authority: 50 U.S.C. app. 2401 et seq.; 50 U.S.C. 1701 et seq.; 22 U.S.C. 2151 (note), Pub. L. 108-175; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13338, 69 FR 26751, 3 CFR, 2004 Comp., p. 168; Notice of November 4, 2004, 69 FR 64637, 3 CFR, 2004 Comp., p. 303; Notice of August 2, 2005, 70 FR 45273 (August 5, 2005).

2. Add General Order No. 3 to Supplement No. 1 to part 736 to read as follows:

Supplement No. 1 to Part 736—General Orders

* * * * *

General Order No. 3 of June 5, 2006; Imposition of license requirement for exports and reexports of items subject to the EAR to Mayrow General Trading and entities related, as follows: Micatic General Trading; Majidco Micro Electronics; Atlinx Electronics; Micro Middle East Electronics; Narinco; F.N. Yaghmaei; and H. Ghasir. Mayrow General Trading and all entities related are located in Dubai, United Arab Emirates.

(a) License requirements. Effective June 5, 2006, a license is required to export or reexport any item subject to the EAR to Mayrow General Trading or entities related, as follows: Micatic General Trading; Majidco Micro Electronics; Atlinx Electronics; Micro Middle East Electronics; Narinco; F.N. Yaghmaei; and H. Ghasir. Mayrow General Trading and all entities related are located in Dubai, United Arab Emirates. This license requirement applies with respect to any transaction in which any of the above-named entities will act as purchaser, intermediate consignee, ultimate consignee, or end-user of the items.

(b) License Exceptions. No License Exceptions are available for exports or reexports involving the entities described in paragraph (a) of this General Order.

PART 744—[AMENDED]

3. The authority citation for 15 CFR part 744 continues to read as follows:

Authority: 50 U.S.C. app. 2401 et seq.; 50 U.S.C. 1701 et seq.; 22 U.S.C. 3201 et seq.; 42 U.S.C. 2139a; Sec. 901-911, Pub. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of October 29, 2003, 68 FR 62209, 3 CFR, 2003 Comp., p. 347; Notice of August 6, 2004, 69 FR 48763 (August 10, 2004).

4. Part 744 is amended by adding § 744.15.

PART 744—CONTROL POLICY: END-USER AND END-USE BASED

§ 744.15 Restrictions on exports and reexports involving persons named in General Orders.

Certain General Orders set forth in Supplement No. 1 to part 736 of the EAR require licenses for exports and reexports involving certain persons (individuals and other legal entities). The requirement to comply with General Orders is set forth in section 736.2(b)(9) of the EAR.

Dated: May 31, 2006.
Matthew Borman,
Deputy Assistant Secretary of Commerce for Export Administration.

[FR Doc. 06-5118 Filed 6-1-06; 11:23 am]

BILLING CODE 3510-33-P